GENERAL SERVICES ADMINISTRATION

Federal Management Regulation; Motor Vehicle Management; Notice of GSA Bulletin FMR B-19

AGENCY: Office of Governmentwide Policy, General Services Administration (GSA).

ACTION: Notice of a bulletin.

SUMMARY: This notice announces GSA Federal Management Regulation (FMR) Bulletin B-19. This bulletin provides guidance to Federal agencies on increasing fuel efficiency for the Federal motor vehicle fleets. GSA Bulletin FMR B-19 may be found at www.gsa.gov/fmrbulletin.

DATES: The bulletin announced in this notice became effective on August 29, 2008.

FOR FURTHER INFORMATION CONTACT Janet Dobbs, Office of Governmentwide Policy (M), Office of Travel, Transportation, and Asset Management (MT), General Services Administration at (202) 208-6601 or via e-mail at janet.dobbs@gsa.gov. Please cite FMR Bulletin B-19.

SUPPLEMENTARY INFORMATION:

A. Background

Federal agencies are required to obtain fuel efficient vehicles in accordance with Subpart A of Federal Management Regulation (FMR) part 102-34, Motor Vehicle Management. The Energy Policy Act requires agencies to acquire alternative fuel vehicles, and Executive Order 13423, Strengthening Federal Environmental, Energy, and Transportation Management, requires agencies to decrease petroleum consumption and increase alternative fuel use. Also, the Energy Independence and Security Act of 2007 set forth efforts to enhance energy conservation and efficiency. Increasing fuel efficiency will help agencies save on fuel costs while also helping them to meet environmental mandates.

This notice announces GSA Bulletin FMR B-19 that provides guidance on increasing fuel efficiency for the Federal motor vehicle fleets.

B. Procedures

Bulletins regarding motor vehicle management are located on the Internet at www.gsa.gov/fmrbulletin as Federal Management Regulation (FMR) bulletins.

Dated: August 29, 2008.
Becky Rhodes,
Deputy Associate Administrator.

[FR Doc. E8-21921 Filed 9-18-08; 8:45 am]

BILLING CODE 6820-14-S